DEPARTMENT OF TRANSPORTATION

Federal Aviation Administration

14 CFR Part 39

[Docket No. FAA-2014-0578; Directorate Identifier 2013-SW-048-AD]

RIN 2120-AA64

Airworthiness Directives; Airbus Helicopters Deutschland GmbH (Previously Eurocopter Deutschland GmbH) (Airbus Helicopters) Helicopters

AGENCY: Federal Aviation Administration (FAA), DOT.

ACTION: Notice of proposed rulemaking (NPRM).

SUMMARY: We propose to adopt a new airworthiness directive (AD) for Airbus Helicopters Model MBB-BK 117 C-2 helicopters with certain duplex trim actuators installed. This proposed AD would require repetitively inspecting the lateral and longitudinal trim actuator output levers for correct torque of the nuts. This proposed AD is prompted by a design review that the attachment screws can become lost under certain circumstances. The proposed actions are intended to prevent the loss of an attachment screw, which could result in movement of the output lever in an axial direction, contact of a bolt connecting the control rod to an output lever with the actuator housing, and subsequent loss of helicopter control.

DATES: We must receive comments on this proposed AD by October 17, 2014.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov or in person at the Docket Operations Office between 9 a.m. and 5 p.m., Monday through Friday, except Federal holidays. The AD docket contains this proposed AD, the European Aviation Safety Agency (EASA) AD, the economic evaluation, any comments received, and other information. The street address for the Docket Operations Office (telephone 800-647-5527) is in the ADDRESSES section. Comments will be available in the AD docket shortly after receipt.

For service information identified in this proposed AD, contact Airbus Helicopters, Inc., 2701 N. Forum Drive, Grand Prairie, TX 75052; telephone (972) 641-0000 or (800) 232-0323; fax (972) 641-3775; or at http://www.airbushelicopters.com/techpub. You may review the referenced service information at the FAA, Office of the Regional Counsel, Southwest Region, 2601 Meacham Blvd., Room 663, Fort Worth, Texas 76137.

FOR FURTHER INFORMATION CONTACT: Matt Wilbanks, Aviation Safety Engineer, Regulations and Policy Group, Rotorcraft Directorate, FAA, 2601 Meacham Blvd., Fort Worth, Texas 76137; telephone (817) 222-5110; email matt.wilbanks@faa.gov.

SUPPLEMENTARY INFORMATION:

Comments Invited

We invite you to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

We will file in the docket all comments that we receive, as well as a report summarizing each substantive public contact with FAA personnel concerning this proposed rulemaking. Before acting on this proposal, we will consider all comments we receive on or before the closing date for comments. We will consider comments filed after the comment period has closed if it is possible to do so without incurring expense or delay. We may change this proposal in light of the comments we receive.

Discussion

EASA, which is the Technical Agent for the Member States of the European Union, has issued EASA AD No. 2013-0182, dated August 12, 2013, to correct an unsafe condition for Airbus Helicopters Model MBB-BK 117 C-2 helicopters with a lateral duplex trim actuator, part number (P/N) 418-00878-050 or P/N 418-00878-051, or with a longitudinal duplex trim actuator, P/N 418-00878-000 or P/N 418-00878-001. EASA advises that recent analysis has shown that under unfavorable circumstances, a total loss of the trim actuator output lever attachment screw could lead to a restriction of the lateral and longitudinal control range. According to EASA, without the attachment screw, the output lever can move in the axial direction. This condition, if not detected, could cause the bolt that connects the control rod to the output lever to make contact with actuator housing, possibly resulting in reduced control of the helicopter. To prevent this condition, EASA requires an initial torque check of the lateral and longitudinal trim actuator output level attachment screws, the application of a torque marking, and repetitive inspections for correct torque thereafter. The AD's requirements are considered an interim solution, pending a terminating modification.

Since the issuance of EASA AD No. 2013-0182, Eurocopter Deutschland GmbH has changed its name to Airbus Helicopters Deutschland GmbH.

FAA's Determination

These helicopters have been approved by the aviation authority of Germany and are approved for operation in the United States. Pursuant to our bilateral agreement with Germany, EASA, its technical representative, has notified us of the unsafe condition described in its AD. We are proposing this AD because we evaluated all known relevant information and determined that an unsafe condition is likely to exist or develop on other products of the same type design.

Related Service Information

We reviewed Eurocopter (now Airbus Helicopters) Alert Service Bulletin MBB-BK117 C-2-67A-020, Revision 0, dated June 18, 2013 (ASB), which advises of a design review that showed that a loss of the attachment screw of the trim actuator output lever could restrict the lateral and longitudinal control range. The ASB consequently calls for an initial torque check and application of torque markings of the self-locking nuts, and subsequent repetitive inspections to maintain the proper torque.

Proposed AD Requirements

This proposed AD would require, within 300 hours time-in-service (TIS) and thereafter at intervals not exceeding 400 hours TIS, inspecting the lateral and longitudinal trim actuator output lever self-locking nuts for correct torque and applying torque marking. For each inspection where the nuts are not torqued to the correct value and must be adjusted, the torque marking would be removed and reapplied.

Interim Action

We consider this AD to be an interim action because Airbus Helicopters is currently developing a modification that will address the unsafe condition identified in this AD. Once this modification is developed, approved and available, we might consider additional rulemaking.

Costs of Compliance

We estimate that this proposed AD would affect 100 helicopters of U.S. Registry and that labor costs average $85 per work-hour. Based on these estimates, we expect the following costs:

Applying torque and torque marking to the lateral and longitudinal trim actuator output levers would require 1 work-hour for a labor cost of $85. No parts would be needed, so the cost for the U.S. fleet would total $8,500.

Visually inspecting for correct torque would require 0.5 work-hour for a labor cost of about $43. No parts would be needed, so the total cost for the U.S. fleet would be $4,300 per inspection cycle.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This proposed regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866;

2. Is not a “significant rule” under the DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Airbus Helicopters Deutschland GmbH (Previously Eurocopter Deutschland GmbH) (Airbus Helicopters) Helicopters: Docket No. FAA-2014-0578; Directorate Identifier 2013-SW-048-AD.

(a) Applicability

This AD applies to Airbus Helicopters Model MBB-BK 117 C-2 helicopters with a lateral duplex trim actuator, part number (P/N) 418-00878-050 or P/N 418-00878-051, or a longitudinal duplex trim actuator, P/N 418-00878-000 or P/N 418-00878-001, installed, certificated in any category.

(b) Unsafe Condition

This AD defines the unsafe condition as loss of a trim actuator output lever attachment screw. This condition could result in movement of the output lever in an axial direction, contact of a bolt connecting the control rod to an output lever with the actuator housing, and subsequent loss of control of the helicopter.

(c) Comments Due Date

We must receive comments by October 17, 2014.

(d) Compliance

You are responsible for performing each action required by this AD within the specified compliance time unless it has already been accomplished prior to that time.

(e) Required Actions

(1) Within 300 hours time-in-service (TIS), apply a torque of 31.0 inch-pounds (3.5 Nm) to the self-locking nut (nut) on each lateral and longitudinal trim actuator output lever and apply a torque marking between the nut and the screw.

(2) Thereafter at intervals not to exceed 400 hours TIS, visually inspect each nut on each lateral and longitudinal trim actuator output lever to determine whether the torque is at 31.0 inch-pounds (3.5 Nm). If the torque is not at 31.0 inch-pounds, apply a torque of 31.0 inch-pounds (3.5 Nm), remove the previous torque marking, and apply a new torque marking between the nut and the screw.

(3) Do not install a lateral duplex trim actuator, part number (P/N) 418-00878-050 or P/N 418-00878-051, or a longitudinal duplex trim actuator, P/N 418-00878-000 or P/N 418-00878-001, on any helicopter unless each nut has been inspected for proper torque in accordance with the requirements of this AD.

(f) Alternative Methods of Compliance (AMOCs)

(1) The Manager, Safety Management Group, FAA, may approve AMOCs for this AD. Send your proposal to: Matt Wilbanks, Aviation Safety Engineer, Regulations and Policy Group, Rotorcraft Directorate, FAA, 2601 Meacham Blvd., Fort Worth, Texas 76137; telephone (817) 222-5110; email matt.wilbanks@faa.gov.

(2) For operations conducted under a 14 CFR part 119 operating certificate or under 14 CFR part 91, subpart K, we suggest that you notify your principal inspector, or lacking a principal inspector, the manager of the local flight standards district office or certificate holding district office before operating any aircraft complying with this AD through an AMOC.

(g) Additional Information

(1) Eurocopter Alert Service Bulletin MBB-BK117 C-2-67A-020, Revision 0, dated June 18, 2013, which is not incorporated by reference, contains additional information about the subject of this AD. For service information identified in this AD, contact Airbus Helicopters, Inc., 2701 N. Forum Drive, Grand Prairie, TX 75052; telephone (972) 641-0000 or (800) 232-0323; fax (972) 641-3775; or at http://www.airbushelicopters.com/techpub. You may review the referenced service information at the FAA, Office of the Regional Counsel, Southwest Region, 2601 Meacham Blvd., Room 663, Fort Worth, Texas 76137.

(2) The subject of this AD is addressed in the European Aviation Agency (EASA) AD No. 2013-0182, dated August 12, 2013. You may view the EASA AD on the Internet at http://www.regulations.gov in the AD Docket.

(h) Subject

Joint Aircraft Service Component (JASC) Code: Rotorcraft Flight Control, 6700.

Issued in Fort Worth, Texas, on August 8, 2014.
Lance T. Gant,
Acting Directorate Manager, Rotorcraft Directorate, Aircraft Certification Service.

[FR Doc. 2014-19506 Filed 8-15-14; 8:45 am]

BILLING CODE 4910-13-P